ENVIRONMENTAL PROTECTION AGENCY

[FRL-8205-5]

Agency Information Collection Activities OMB Responses

AGENCY: Environmental Protection Agency (EPA).

ACTION: Notice.

SUMMARY: This document announces the Office of Management and Budget's (OMB) response to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 0261.15; Notification of Regulated Waste Activity (Renewal); in 40 CFR 262.12; 40 CFR 263.11; 40 CFR 264.11; 40 CFR 265.11; 40 CFR 266.21; 40 CFR 266.22; 40 CFR 266.23; 40 CFR 266.70(b)(1); 40 CFR 266.80(b)(1)(i); 40 CFR 266.80(b)(2)(i); 40 CFR 266.100(c)(1)(i); 40 CFR 266.100(f)(1); 40 CFR 266.101(a); 40 CFR 266.101(b); 40 CFR 266.101(c); 40 CFR 266.102(a)(2)(ii); 40 CFR 266.103(a)(4)(ii); 40 CFR 266.108(d); 40 CFR 270.1(b); 40 CFR 273.54; 40 CFR 273.60(a); 40 CFR 279.42; 40 CFR 279.51; 40 CFR 279.62; 40 CFR 279.73; was approved 06/06/2006; OMB Number 2050-0028; expires 06/30/2009.

EPA ICR No. 0328.11; Spill Prevention, Control and Countermeasure (SPCC) Plans (Renewal); in 40 CFR 112.1-112.15; was approved 06/06/2006; OMB Number 2050-0021; expires 06/30/2009.

EPA ICR No. 1571.08; General Hazardous Waste Facility Standards (Renewal); in 40 CFR 264.12(a)-(c); 40 CFR 264.13(a)(1), (b)-(c); 40 CFR 264.15(d); 40 CFR 264.16(d); 40 CFR 264.17(c); 40 CFR 264.37; 40 CFR 264.51-.54; 40 CFR 264.56; 40 CFR 264.73-.74; 40 CFR 264.96; 40 CFR 264.97(g); 40 CFR 264.101(b), (c); 40 CFR 264.112; 40 CFR 264.113(a), (b), (d); 40 CFR 264.115; 40 CFR 264.116; 40 CFR 264.118-.120; 40 CFR 264.142(a), 40 CFR 264.143(a); 40 CFR 264.144(a); 40 CFR 264.145(a); 40 CFR 264.147; 40 CFR 264.148; 40 CFR 264.149; 40 CFR 264.150; 40 CFR 265.12(a)-(b); 40 CFR 265.13(a)(1), (b)-(c); 40 CFR 265.15(d); 40 CFR 265.16(d); 40 CFR 265.19; 40 CFR 265.51-54; 40 CFR 265.56; 40 CFR 265.73-.74; 40 CFR 265.112; 40 CFR 265.113(a), (b), (d); 40 CFR 265.115; 40 CFR 265.116; 40 CFR 265.118-.120; 40 CFR 264.142(a); 40 CFR 265.143(a); 40 CFR 265.144(a); 40 CFR 265.145(a); 40 CFR 265.147; 40 CFR 265.148; 40 CFR 265.149; 40 CFR 265.150; 40 CFR part 264, subpart H; 40 CFR part 265, subpart H; 40 CFR 270.30; was approved 06/06/2006; OMB Number 2050-0120; expires 06/30/2009.

EPA ICR No. 1951.03; NESHAP for Paper and Other Web Coating Renewal; in 40 CFR part 63, subpart JJJJ; was approved 06/13/2006; OMB Number 2060-0511; expires 06/30/2009.

EPA ICR No. 1954.03; NESHAP for the Surface Coating of Large Household and Commercial Appliances; in 40 CFR part 63, subpart NNNN, (Renewal); was approved 06/13/2006; OMB Number 2060-0457; expires 06/30/2009.

EPA ICR No. 1976.03; NESHAP for Reinforced Plastic Composites Production (Renewal); in 40 CFR part 63, subpart WWWW; was approved 06/12/2006; OMB Number 2060-0509; expires 06/30/2009.

EPA ICR No. 2022.03; NESHAP for Brick and Structural Clay Manufacturing (Renewal); in 40 CFR part 63, subpart JJJJJ; was approved 06/13/2006; OMB Number 2060-0508; expires 06/30/2009.

EPA ICR No. 2040.03; NESHAP for Refractory Products Manufacturing (Renewal); in 40 CFR part 63, subpart SSSSS; was approved 06/12/2006; OMB Number 2060-0515; expires 06/30/2009.

EPA ICR No. 2071.03; NESHAP for Printing, Coating and Dyeing of Fabrics and Other Textiles (Renewal); in 40 CFR part 63, subpart OOOO; was approved 06/12/2006; OMB Number 2060-0522; expires 06/30/2009.

EPA ICR No. 2211.01; Focus Group Research for Fuel Economy Label Designs; was approved 06/09/2006; OMB Number 2060-0581; expires 08/31/2006.

EPA ICR No. 2228.01; Reformulated Gasoline Commingling Provisions; in 40 CFR part 80.78; was approved 06/09/2006; OMB Number 2060-0587; expires 11/30/2006.

EPA ICR No. 1591.21; Regulation of Fuel and Fuel Additives: Refiner and Importer Quality Assurance Requirements for Downstream Oxygen Blending and Requirements for Disposition of Pipeline Interfaces (Direct Final Rule); in 40 CFR 80.69; 40 CFR 80.74; 40 CFR 80.77; 40 CFR 80.84; 40 CFR 80.104; 40 CFR 80.213; 40 CFR 80.365; 40 CFR 80.840; was approved 07/12/2006; OMB Number 2060-0277; expires 10/31/2007.

EPA ICR No. 2104.02; Brownfields Programs—Revitalization Grantee Reporting (Renewal); was approved 07/05/2006; OMB Number 2050-0192; expires 07/31/2009.

EPA ICR No. 0575.10; Health and Safety Data Reporting; Submission of Lists and Copies of Health and Safety Studies; in 40 CFR part 716; was approved 07/06/2006; OMB Number 2070-0004; expires 07/31/2009.

EPA ICR No. 2055.02; Data Submissions for the Voluntary Children's Chemical Evaluation Program (VCCEP); was approved 07/09/2006; OMB Number 2070-0165; expires 07/31/2009.

EPA ICR No. 2014.03; Reporting and Recordkeeping Requirements of the HCFC Allowance System (Renewal); in 40 CFR part 82.23, 40 CFR part 82.24; was approved 07/10/2006; OMB Number 2060-0498; expires 07/31/2009.

EPA ICR No. 2184.02; Inclusion of Delaware and New Jersey in the Clean Air Interstate Rule (Final Rule); in 40 CFR 51.123(c)(1), (c)(3), (e)(2), (e)(4)(ii); 40 CFR 51.124(c), (e)(2); 40 CFR 51.125 (a)(1); 40 CFR 96.140; 40 CFR 96.143(a); was approved 07/10/2006; OMB Number 2060-0584; expires 07/31/2009.

Comment Filed

EPA ICR No. 0328.12; Spill Prevention, Control and Countermeasure (SPCC) Plants (Proposed Rule); OMB Number 2050-0021; in 40 CFR 112.3(e); 40 CFR 112.4(a), (e)-(f); 40 CFR 112.5(a); 40 CFR 112.7(a)-(i); OMB filed comments on 06/12/2006.

EPA ICR No. 0783.50; Cold Temperature Hydrocarbon Emissions Standards for Light-Duty Vehicles, Light-Duty Trucks, and Medium-Duty Passenger Vehicles (Proposed Rule); in 40 CFR part 85, subparts R, S, T, V, W, and Y; 40 CFR part 86, subparts B, E, F, G, H, J, K, L, O, P, R, and S; 40 CFR part 600, subparts A, B, D, and F; OMB filed comments on 06/23/2006.

EPA ICR No. 1989.03; Revised NPDES and Effluent Limitation Guidelines for Concentrated Animal Feeding Operations in Response to Waterkeeper Decision (Proposed Rule); in 40 CFR 122, 40 CFR 122.21(i)(1)(i-xi), 40 CFR 122.21(f), 40 CFR 122.21(f)(1), 40 CFR 122.21(f)(7), 40 CFR 122.23(f)(1-3), 40 CFR 122.23(g-h), 40 CFR 122.28(b)(3)(iv), 40 CFR 122.41, 40 CFR 122.42(e)(1), 40 CFR 122.42(e)(1)(i-iv), 40 CFR 122.42(e)(4), 40 CFR 122.42(e)(3), 40 CFR 122.62, 40 CFR 122.62(b)(2-4), 40 CFR 123, 40 CFR 123.25, 40 CFR 123.40, 40 CFR 123.25(a)(22, 27, 30, 31, 33, 34), 40 CFR 123.26(b), 40 CFR 123.42(e)(3-4), 40 CFR 123.42(e)(4)(i-vi), 40 CFR 123.62, 40 CFR 123.62(a), 40 CFR 123.62(b)(1), 40 CFR 412, 40 CFR 412(a)(1)(i-iii), 40 CFR 412.37(b), 40 CFR 412.37(b)(1-6), 40 CFR 412.37(c), 40 CFR 412.37(c)(1-9); OMB filed comments on 07/11/2006.

Short Term Extensions

EPA ICR No. 2212.01; MBE/WBE Utilization under Federal Grants, Cooperative, Agreements and Interagency Agreements; OMB Number 2090-0025; on 06/29/2006 OMB extended the expiration date to 08/31/2006.

EPA ICR No. 1842.04; Notice of Intent for Storm Water Discharges Associated with Construction Activity under a NPDES General Permit; OMB Number 2040-0188; on 06/29/2006 OMB extended the expiration date to 09/30/2006.

EPA ICR No. 0226.17; applications for NPDES Discharge Permits and the Sewage Sludge Management Permits; OMB Number 2040-0086; on 06/29/2006 OMB extended the expiration date to 09/30/2006.

EPA ICR No. 1820.03; NPDES Storm Water Program Phase II; OMB Number 2040-0211; on 06/29/2006 OMB extended the expiration date to 09/30/2006.

EPA ICR No. 2003.02; NESHAP for Integrated Iron and Steel Manufacturing (Final Rule); OMB Number 2060-0517; on 06/29/2006 OMB extended the expiration date to 08/30/2006.

Dated: July 27, 2006.
Oscar Morales,
Director, Collection Strategies Division.

[FR Doc. E6-12540 Filed 8-2-06; 8:45 am]

BILLING CODE 6560-50-P